DEPARTMENT OF HEALTH AND HUMAN SERVICES

Centers for Medicare & Medicaid Services

42 CFR Parts 405, 411, 413 and 414

[CMS-1614-CN]

RIN 0938-AS13

Medicare Program; Quality Incentive Program; Correction

AGENCY: Centers for Medicare & Medicaid Services (CMS), HHS.

ACTION: Final rule; correction.

SUMMARY: This document corrects technical errors that appeared in the final rule published in the Federal Register on November 6, 2014 entitled “End-Stage Renal Disease Prospective Payment System, Quality Incentive Program, and Durable Medical Equipment, Prosthetics, Orthotics, and Supplies.”

DATES: This correction is effective on March 13, 2015.

FOR FURTHER INFORMATION CONTACT: Tamyra Garcia, (410) 786-0856.

SUPPLEMENTARY INFORMATION:

I. Background

In FR Doc. 2014-26182 of November 6, 2014 (79 FR 66120), there were technical and typographical errors that are identified and corrected in the Correction of Errors section below. The provisions in this correction document are effective as if they had been included in the document published on November 6, 2014. Accordingly, the corrections are effective March 13, 2015.

II. Summary of Errors

On page 66184 of the preamble, we have determined that there were errors in the performance standard, achievement threshold, and benchmark values presented in the Numerical Values for the Performance Standards for the Payment Year (PY) 2017 End-Stage Renal Disease (ESRD) Quality Incentive Program (QIP) Clinical Measures Using the Most Recently Available Data table for PY 2017 of the ESRD QIP (Table 23). Specifically, the numerical values published for the Standardized Readmission Ratio clinical measure were calculated using only 6 months of data from calendar year 2013 instead of the full 12 months, as specified under our finalized policy (79 FR 66183). Therefore, we are publishing this technical correction to ensure that these numerical standards align with the finalized policies for the PY 2017 ESRD QIP.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons; therefore, in the notice.

Since this rule correction is simply correcting technical and typographical errors in the preamble, but does not make substantive changes to the policies or payment methodologies that were adopted in the final rule, it is unnecessary to follow the notice and comment procedure in this instance. Therefore, we believe that we have good cause to forego notice and a period for comment.

IV. Correction of Errors

In FR Doc. 2014-26182 of November 6, 2014 (79 FR 66120) make the following corrections:

1. On page 66184, in Table 23 “Numerical Values for the Performance Standards for the PY 2017 ESRD QIP Clinical Measures Using the Most Recently Available Data”; in the fifth row titled “Standardized Readmission Ratio” remove the existing values and add the following values in their place:

Measure | Performance standard | Achievement threshold | Benchmark
Standardized Readmission Ratio | 0.648 | 1.261 | 0.998

Dated: March 6, 2015.
C'Reda Weeden,
Executive Secretary to the Department, Department of Health and Human Services.

[FR Doc. 2015-05766 Filed 3-12-15; 8:45 am]

BILLING CODE 4120-01-P